DEPARTMENT OF TRANSPORTATION

Federal Aviation Administration

14 CFR Part 39

[Docket No. 98-CE-112-AD; Amendment 39-11747; AD 99-15-04 R1]

RIN 2120-AA64

Airworthiness Directives; The New Piper Aircraft, Inc., Models PA-46-310P and PA-46-350P Airplanes

AGENCY: Federal Aviation Administration, DOT.

ACTION: Final rule.

SUMMARY: This amendment revises Airworthiness Directive (AD) 99-15-04, which currently requires you to calibrate, inspect, and repair or replace portions of the turbine inlet temperature system on all The New Piper Aircraft, Inc. (New Piper) Models PA-46-310P and PA-46-350P airplanes (different actions for different airplane models). Information reveals that the AD should not apply to airplanes where the factory installed turbine inlet temperature gauge and associated probe have been replaced through supplemental type certificate (STC). This AD retains the actions of AD 99-15-04, and restricts the applicability accordingly. The actions specified by this AD are intended to prevent improper engine operation caused by improperly calibrated turbine inlet temperature indicators or defective turbine inlet temperature probes, which could result in engine damage/failure with consequent loss of control of the airplane.

EFFECTIVE DATE: This AD becomes effective on July 28, 2000.

ADDRESSES: You may examine information related to this AD at FAA, Central Region, Office of the Regional Counsel, Attention: Rules Docket No. 98-CE-112-AD, 901 Locust, Room 506, Kansas City, Missouri 64106.

FOR FURTHER INFORMATION CONTACT: Mr. Donald J. Young, Aerospace Engineer, FAA, Atlanta Aircraft Certification Office, One Crown Center, 1895 Phoenix Boulevard, Suite 450, Atlanta, Georgia 30349; telephone: (770) 703-6079; facsimile: (770) 703-6097; e-mail address: “Donald.Young@faa.gov”.

SUPPLEMENTARY INFORMATION:

Events Leading to the Issuance of This AD

Has FAA taken any action to this point? Field reports that indicated service accuracy problems with the existing turbine inlet temperature system on certain New Piper Models PA-46-310P and PA-46-350P airplanes caused FAA to issue AD 99-15-04, Amendment 39-11223. This AD currently requires you to accomplish the following:

1. Calibrate the turbine inlet temperature system to assure the accuracy of the existing turbine inlet temperature indicator and wiring on all airplanes;

2. Repair or replace any turbine inlet temperature system that fails the calibration test on all airplanes;

3. Repetitively replace the turbine inlet temperature probe on the Model PA-46-350P airplanes; and

4. Insert a copy of the AD into the Pilot's Operating Handbook (POH) of certain airplanes.

Since issuing AD 99-15-04, we have received information to show that the AD should not apply on airplanes where the factory installed turbine inlet temperature gauge and associated probe were replaced through supplemental type certificate (STC).

To address this issue, we issued a notice of proposed rulemaking (NPRM) to revise AD 99-15-04. This NPRM was published in the Federal Register on November 5, 1999 (64 FR 60383). The NPRM proposed to continue to require you to accomplish all the actions that AD 99-15-04 currently requires. Those airplanes that do not have a Lewis or Transicoil Turbine Inlet Temperature Gauge and associated probe installed, and where this system was replaced in accordance with an STC, would be excluded from the AD. Relief from the AD is available only if the gauge and probe are replaced through STC and not if a second turbine inlet temperature gauge was installed while retaining the Lewis or Transicoil gauge and probe.

Was the public invited to comment on the NPRM? The FAA invited interested persons to participate in the making of the amendment. A summary of the comments and FAA's responses follows:

Comment Issue No. 1: Provide Justification for Indefinite Life of Probes Installed Through STC

What is the commenter's concern? One commenter requests an explanation on how FAA determined that the turbine inlet temperature gauge and associated probe would last indefinitely if installed through STC.

What is FAA's response to the concern? Our intent of this AD is not to life limit the turbine inlet temperature system. We are issuing the AD to assure that the system is calibrated correctly and assure that certain parts of this system are checked and replaced accordingly. We have not received any service history or other evidence of problems with those systems installed in accordance with an STC. We also have not received any evidence of inadequate maintenance instructions for any system installed in accordance with an STC. If an unsafe condition develops on airplanes with these systems installed per STC, we will issue an AD against airplanes with that specific configuration.

We are not changing the AD as a result of this comment.

Comment Issue No. 2: Provide Specific STC Numbers and Holders

What are the commenter's concerns? One commenter requests that FAA include a list of STC numbers and holders of those STC's that provide relief from this AD. This commenter also points out that relief should also be given if New Piper (the manufacturer) develops a new turbine temperature inlet system since we are allowing relief for any STC, whether currently-approved or approved in the future.

What is FAA's response to the concerns? We have elected not to provide a list of STC's that provide relief because the FAA having to revise the AD every time a new STC was developed and certificated would make tracking of this AD action confusing and impractical. We acknowledge that New Piper could develop a system that could be eligible for relief from the actions in this AD. In this case, New Piper could request an alternative method of compliance to the AD. If we approve, then New Piper could include a statement in the maintenance instructions that installation of such a system is considered an alternative method of compliance to the AD per a specific FAA letter, or FAA could revise the AD to exclude such systems.

We are not changing the AD as a result of this comment.

Comment Issue No. 3: Include Piper Service Bulletin No. 995A in the AD

What is the commenter's concern? One commenter requests that FAA reference Piper Service Bulletin No. 995A, dated April 26, 1996, in the AD.

What is FAA's response to the concern? Piper Service Bulletin No. 995A, dated April 26, 1996, contains information related to the subject of this AD. However, if you comply with this service bulletin, you have not accomplished all of the actions required by the AD. Therefore, we are not mandating compliance with the service bulletin. Instead we are including the following statement in the AD: “Piper Service Bulletin 995A, dated April 26, 1996, contains information related to the subject matter of this AD.”

The FAA's Determination

What is FAA's final determination on this issue? After careful review of all available information related to the subject presented above, we have determined that air safety and the public interest require the adoption of the rule as proposed except for the following:

—the addition of the statement that Piper Service Bulletin No. 995A contains information related to the subject matter of this AD; and

—minor editorial corrections.

How does the addition and corrections affect the AD? We have determined that the addition and minor corrections will not change the meaning of the AD and will not add any additional burden upon the public than was already proposed.

Cost Impact

How many airplanes does this AD impact? We estimate that this AD will affect 580 airplanes in the U.S. registry.

What is the cost impact of the affected airplanes on the U.S. Register? We estimate 4 workhours per airplane to accomplish the calibration at an average labor rate of $60 an hour. Based on these figures, we estimate the cost impact of the calibration on U.S. operators at $139,200, or $240 per airplane.

We estimate 1 workhour per airplane to accomplish the initial turbine inlet temperature probe replacement at an average labor rate of $60 an hour. Parts cost approximately $518. We estimate the cost impact of the replacement on U.S. operators at $335,240, or $578 per airplane.

What about repetitive actions? These figures only take into account the initial replacement and do not take into account the cost of subsequent repetitive replacements. We have no way of determining the number of replacements each owner/operator will incur over the life of the affected airplanes.

What is the cost impact difference between this AD and AD 99-15-04? The cost impact of this AD is the same as that specified in AD 99-15-04. The only difference between AD 99-15-04 and this AD is the exemption of certain airplanes from this AD if a certain turbine inlet temperature gauge and associated probe is installed.

Regulatory Impact

The regulations adopted herein will not have a substantial direct effect on the States, on the relationship between the national government and the States, or on the distribution of power and responsibilities among the various levels of government. Therefore, it is determined that this final rule does not have federalism implications under Executive Order 13132.

The FAA has determined that this action: (1) Is not a “significant regulatory action” under Executive Order 12866; (2) is not a “significant rule” under DOT Regulatory Policies and Procedures (44 FR 11034, February 26, 1979); and (3) will not have a significant economic impact on a substantial number of small entities under the criteria of the Regulatory Flexibility Act. A copy of the final evaluation prepared for this action is contained in the Rules. We have placed a copy of the final regulatory evaluation prepared for this action in the Rules Docket. You may obtain a copy of it at the Rules Docket at the location provided under the caption ADDRESSES.

List of Subjects in 14 CFR Part 39

Air transportation, Aircraft, Aviation safety, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends Section 39.13 by removing Airworthiness Directive (AD) 99-15-04, Amendment 39-11223 (64 FR 37699, July 13, 1999), and adding a new AD to read as follows:

99-15-04 R1 The New Piper Aircraft, Inc.: Amendment 39-11747; Docket No. 98-CE-112-AD; Revises AD 99-15-04, Amendment 39-11223.

(a) What airplanes are affected by this AD? This AD applies to Models PA-46-310P and PA-46-350P airplanes, all serial numbers, that are:

(1) Certificated in any category; and

(2) Equipped with a Lewis or Transicoil Turbine Inlet Temperature Gauge and associated probe installed. Relief from the AD is available only if the gauge and probe are replaced through STC and not if a second turbine inlet temperature gauge was installed while retaining the Lewis or Transicoil gauge and probe.

(b) Who must comply with this AD? Anyone who wishes to operate any of the above airplanes on the U.S. Register must comply with this AD.

(c) What problem does this AD address? The actions required in this AD are intended to detect and correct improperly calibrated turbine inlet temperature indicators or defective turbine inlet temperature probes. This condition, if not detected and corrected, could result in improper engine operation and engine damage/failure with consequent loss of control of the airplane.

(d) What must I do to address this problem? To address this problem, you must accomplish the following actions:

(1) For the Model PA-46-310P airplanes:

Compliance time | Action | In accordance with
(i) Within the next 100 hours time-in-service (TIS) after August 31, 1999 (the effective date of the AD 99-15-04) | (A) Perform the Turbine Inlet Temperature Gauge and Probe Cleaning and Inspection | The PA-46-310P/350P Maintenance Manual, Chapter 77-20-00 (section A.(1)(d), pages 1 and 2).
| (B) Accomplish the Turbine Inlet Temperature System Calibration | The PA-46-310P/350P Maintenance Manual, Chapter 77-20-00 (pages 3 and 4).
(ii) Prior to further flight after the above cleaning, inspection, and calibration | Repair or replace any failed parts (the turbine inlet temperature system indicator cannot be calibrated or the turbine inlet temperature probe fails the inspection) with serviceable parts that are listed in paragraph (e) of this AD | Equipment manufacturer instructions and the applicable maintenance manual.
(iii) Within the next 100 hours TIS after August 31, 1999 (the effective date of the AD 99-15-04), unless the applicable Pilot's Operating Handbook (POH) revision is incorporated as presented in paragraph (f) of this AD | (A) Incorporate the emergency procedures presented in paragraph (g) of this AD into the POH (B) This may be accomplished by inserting a copy of this AD into the POH. | Not applicable.
(iv) As of July 28, 2000 (the effective date of this AD) | Do not install one of the affected Lewis or Transicoil turbine inlet temperature gauges or probes without assuring that it is airworthy and properly calibrated | Use the procedures located in the previously referenced maintenance manual sections and pages.

(2) For the Model PA-46-350P airplanes:

Compliance time | Action | In accordance with
(i) Within the next 100 hours TIS after August 31, 1999 (the effective date of AD 99-15-04) | (A) Perform the Turbine Inlet Temperature Gauge and Probe Cleaning and Inspection | For serial numbers 4622001 through 4622200 and 4636001 through 4636020, utilize the PA-46-350P Maintenance Manual, Chapter 77-20-00 (section 1.C, page 1).
|  | For all serial numbers beginning with 4636021, utilize the PA-46-350P Maintenance Manual, Chapter 77-20-00 (section 1.C, page 1).
| (B) Accomplish the Turbine Inlet Temperature System Calibration | For serial numbers 4622001 through 4622200 and 4636001 through 4636020, utilize the PA-46-350P Maintenance Manual, Chapter 77-20-00 (section 1.I, pages 4 through 7).
|  | For all serial numbers beginning with 4636021, calibration is not required.
(ii) Prior to further flight after the above cleaning, inspection, and calibration | Repair or replace any failed parts (the turbine inlet temperature system indicator cannot be calibrated or the turbine inlet temperature probe fails the inspection) with serviceable parts that are listed in paragraph (e) of this AD | Equipment manufacturer instructions and the applicable maintenance manual.
(iii) Upon accumulating 250 hours TIS on the currently installed turbine inlet temperature probe or within the next 100 hours TIS after August 31, 1999 (the effective date of AD 99-15-04), whichever occurs later, and thereafter at intervals not to exceed 250 hours TIS | Replace the turbine inlet temperature probe with a new part number 481-389 or 481-392 probe | Equipment manufacturer instructions and the applicable maintenance manual.
(iv) Within the next 100 hours TIS after August 31, 1999 (the effective date of the AD 99-15-04), unless the applicable Pilot's Operating Handbook (POH) revision is incorporated as presented in paragraph (f) of this AD | (A) Incorporate the emergency procedures presented in paragraph (g) of this AD into the POH (B) This may be accomplished by inserting a copy of this AD into the POH. | Not applicable.
(v) As of July 28, 2000 (the effective date of this AD) | Do not install one of the affected Lewis or Transicoil turbine inlet temperature gauges or probes without assuring that it is airworthy and properly calibrated | Use the procedures located in the previously referenced maintenance manual sections and pages.

(3) Operators of the Model PA-46-350P airplanes with over 150 hours TIS on the currently installed turbine inlet temperature probe will have to replace the probe as required in paragraph (d)(2)(iii) of this AD. In this case, the operator may want to accomplish the replacement prior to the Turbine Inlet Temperature Gauge and Probe Cleaning and Inspection, and Turbine Inlet Temperature System Calibration.

(e) What are the part numbers of the replacement parts referenced in paragraph (d)(2)(ii) of this AD?

Equipment name and manufacturer | Part No.
(1) Lewis Turbine Inlet Temperature Analog Indicator | 471-008. This is the only indicator that has a zero adjustment screw.
(2) Lewis Turbine Inlet Temperature Digital Indicator | 548-811. Since this indicator does not have a zero adjustment screw, you must return it to the factory for adjustment or replacement.
(3) Lewis Turbine Inlet Temperature Probe | 471-009 for the Model PA-46-310P airplanes and 481-389 or 481-392 for the Model PA-46-350P airplanes.

(f) What are the POH revisions that can be incorporated instead of the emergency procedures that this AD requires?

(1) For operators of the Model PA-46-310P airplanes:

POH | Revision/date | Affected serial numbers
VB-1200 | 16/March 19, 1999 | 46-8408001 through 46-8608067 and 4608001 through 4608007.
VB-1300 | 13/February 25, 1999 | 4608008 through 4608140.

(2) For operators of the Model PA-46-350P airplanes:

POH | Revision/date | Affected serial numbers
VB-1332 | 16/November 14, 1997 | 4622001 through 4622200.
VB-1609 | 1/November 21, 1997 | 463001 through 4636020.
VB-1602 | 1/November 28, 1997 | 4636021 through 4636131.
VB-1446 | New/December 3, 1997 | 4636132 through 4636195.
VB-1710 | New/February 23, 1999 | All serial numbers beginning with 4636196.

(g) What are the emergency procedures referenced in paragraphs (d)(1)(iii) and (d)(2)(iv) of this AD?

(1) For Model PA-46-310P airplanes:

(i) If the turbine inlet temperature indication fails during takeoff, climb, descent, or landing, maintain FULL RICH mixture to assure adequate fuel flow for engine cooling.

(ii) If the turbine inlet temperature indication fails after cruise power has been set, maintain cruise power setting and lean to 6 gallons per hour (GPH) fuel flow above that specified in the Power Setting Table in Section 5 of the AFM/POH. Continually monitor engine cylinder head and oil temperatures to avoid exceeding temperature limits.

(2) For Model PA-46-350P airplanes:

(i) If the turbine inlet temperature indication fails during takeoff, climb, descent or landing, set power per the POH Section 5 Power Setting Table and then lean to the approximate POH Power Setting Table fuel flow plus 4 GPH.

(ii) If the turbine inlet temperature indication fails after cruise power has been set, maintain the power setting and increase indicated fuel flow by 1 GPH. Continually monitor engine cylinder head and oil temperatures to avoid exceeding temperature limits.

(h) Did The New Piper Aircraft, Inc. develop service information related to this subject? Piper Service Bulletin 995A, dated April 26, 1996, contains information that related to the subject matter of this AD. However, if you comply with this service bulletin, you have not accomplished all of the actions required by the AD. Therefore, we are not mandating compliance with the service bulletin.

(i) Can the pilot accomplish the action? Anyone who holds at least a private pilot certificate, as authorized by section 43.7 of the Federal Aviation Regulations (14 CFR 43.7), may insert a copy of this AD into the POH, as required by this AD. You must make an entry into the aircraft records that shows compliance with this AD, in accordance with section 43.9 of the Federal Aviation Regulations (14 CFR 43.9).

(j) Can I comply with this AD in any other way? You may use an alternative method of compliance or adjust the compliance time if:

(1)(i) Your alternative method of compliance provides an equivalent level of safety; and

(ii) The Manager, Atlanta Aircraft Certification Office (ACO), approves your alternative. Submit your request through an FAA Principal Maintenance Inspector, who may add comments and then send it to the Manager, Atlanta ACO.

(2) Alternative methods of compliance approved in accordance with AD 99-15-04 are approved as alternative methods of compliance for this AD.

Note: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (j) of this AD. The request should include an assessment of the effect of the modification, alteration, or repair on the unsafe condition addressed by this AD; and, if you have not eliminated the unsafe condition, specific actions you propose to address it.

(k) Where can I get information about any already-approved alternative methods of compliance? Contact Donald Young, Aerospace Engineer, Atlanta Aircraft Certification Office, One Crown Center, 1895 Phoenix Boulevard, Suite 450, Atlanta, Georgia 30349; telephone: (770) 703-6079; facsimile: (770) 703-6097; e-mail address: “Donald.Young@faa.gov”.

(l) What if I need to fly the aircraft to another location to comply with this AD? The FAA can issue a special flight permit under §§ 21.197 and 21.199 of the Federal Aviation Regulations (14 CFR 21.197 and 21.199) to operate your aircraft to a location where you can accomplish the requirements of this AD.

(m) Does this AD action affect any existing AD actions? This amendment revises AD 99-15-04, Amendment 39-11223.

(n) When does this amendment become effective? This amendment becomes effective on July 28, 2000.

Issued in Kansas City, Missouri, on May 17, 2000.
Michael Gallagher,
Manager, Small Airplane Directorate, Aircraft Certification Service.

[FR Doc. 00-13083 Filed 5-24-00; 8:45 am]

BILLING CODE 4910-13-P